DEPARTMENT OF COMMERCE

National Oceanic and Atmospheric Administration

[RTID 0648-XB990]

Spring Meeting of the Advisory Committee to the U.S. Section to the International Commission for the Conservation of Atlantic Tunas

AGENCY: National Marine Fisheries Service (NMFS), National Oceanic and Atmospheric Administration (NOAA), Commerce.

ACTION: Notice of the Advisory Committee's 2022 spring meeting.

SUMMARY: The Advisory Committee to the U.S. Section to the International Commission for the Conservation of Atlantic Tunas (ICCAT) announces part II of its annual spring meeting, to be held May 12-13, 2022 in Miami, Florida. A virtual option for joining the meeting will also be available.

DATES: The open sessions of the Committee meeting will be held on May 12, 2022, 9:30 a.m. to 11:30 a.m. and May 13, 2022, 9 a.m. to 12 p.m. Closed sessions will be held on May 12, 2022, 1:30 p.m. to 4:30 p.m.

ADDRESSES: The meeting will be held at the Courtyard by Marriott Miami Coconut Grove, 2649 South Bayshore Drive, Miami, Florida 33133. For those attending virtually, please register at: https://forms.gle/twa9SH3RSESLiDYBA. Instructions will be emailed to those registered for virtual participation before the meeting occurs. Registration will close on May 8, 2022 at 5 p.m. EDT.

FOR FURTHER INFORMATION CONTACT: Bryan Keller, Office of International Affairs, Trade, and Commerce, 202-897-9208 or at bryan.keller@noaa.gov.

SUPPLEMENTARY INFORMATION: The Advisory Committee to the U.S. Section to ICCAT will meet in open session to receive and discuss information on recent Regional Fisheries Management Organization (RFMO) intersessional meetings of interest; the results of the meetings of the Committee's Species Working Groups; and other matters relating to the international management of ICCAT species. The public will have access to the open sessions of the meeting, but there will be no opportunity for public comment during the meeting. An agenda is available from the Committee's Executive Secretary upon request (see FOR FURTHER INFORMATION CONTACT).

The Committee will meet in its Species Working Groups in closed session on the afternoon of May 12, 2022. These sessions are not open to the public, but the results of the Species Working Group discussions will be reported to the full Advisory Committee during the Committee's open session on May 13, 2022.

Special Accommodations

The virtual meeting is accessible to people with disabilities. Requests for auxiliary aids should be directed to Bryan Keller at 202-897-9208 or bryan.keller@noaa.gov at least 5 days prior to the meeting date.

Authority: 16 U.S.C. 971 et seq.; 16 U.S.C. 1801 et seq.

Dated: April 25, 2022.
Alexa Cole,
Director, Office of International Affairs, Trade, and Commerce, National Marine Fisheries Service.

[FR Doc. 2022-09188 Filed 4-28-22; 8:45 am]

BILLING CODE 3510-22-P